DEPARTMENT OF ENERGY

Federal Energy Regulatory Commission

[Docket Nos. EC06-94-000, et al.]

Crescent Ridge LLC et al.; Electric Rate and Corporate Filings

March 24, 2006.

The following filings have been made with the Commission. The filings are listed in ascending order within each docket classification.

1. Crescent Ridge LLC, Eurus Wind Partner 2003 LLC, Eurus Wind Member 2003 Inc., Crescent Ridge Holdings LLC

[Docket No. EC06-94-000]

Take notice that on March 16, 2006, Crescent Ridge LLC (Crescent Ridge), Eurus Wind Partner 2003 LLC, a Delaware limited liability company (f/k/a TPC Crescent Ridge LLC) (Eurus Partner), Eurus Wind Member 2003 Inc., a Delaware corporation and Crescent Ridge Holdings LLC, a Delaware limited liability company (collectively, Applicants) filed with the Commission an application seeking authorization pursuant to section 203 of the Federal Power Act in connection with the sale of Crescent Ridge to Crescent Ridge Holdings.

Comment Date: 5 p.m. eastern time on April 6, 2006.

2. FR Ingenco Acquisition, LLC; Industrial Power Generation Corporation

[Docket No. EC06-95-000]

Take notice that on March 17, 2006, FR Ingenco Acquisition, LLC and Industrial Power Generation Corporation (collectively, Applicants) submitted an application pursuant to section 203 of the Federal Power Act for authorization of the transfer of jurisdictional facilities resulting from the merger transaction under which Ingenco will merge with and into FR Acquisition with FR Acquisition as the surviving entity. The application contains a request for privileged treatment of the merger agreement governing the transaction and other confidential agreements that will be transferred as part of the transaction.

Comment Date: 5 p.m. eastern time on April 7, 2006.

3. CalPeak Power—Border LLC, CalPeak Power—El Cajon LLC, CalPeak Power—Enterprise LLC, CalPeak Power—Panoche LLC, CalPeak Power—Vaca Dixon LLC, CalPeak Power—Midway LLC, CalPeak Power, LLC, UT California Power LLC and CP Power, LLC

[Docket No. EC06-96-000]

Take notice that on March 16, 2006, CalPeak Power—Border LLC, CalPeak Power—El Cajon LLC, CalPeak Power—Enterprise, LLC, CalPeak Power—Panoche LLC, CalPeak Power—Vaca Dixon LLC (together CalPeak Entities), CalPeak Power—Midway LLC (Midway), UT California Power LLC (UT California), CalPeak Power, LLC and CP Power, LLC (CP) filed with the Federal Energy Regulatory Commission an application pursuant to section 203 of the Federal Power Act for authorization for the disposition of jurisdictional facilities in connection with: (i) The sale by the CalPeak Entities to CP of all of the issued and outstanding membership interests in the CalPeak Entities, which own electric generation facilities located in California; and (ii) an internal corporate restructuring of Midway. Applicants have requested privileged treatment of portions of the Application.

Comment Date: 5 p.m. eastern time on April 6, 2006.

4. Rumford Falls Power Company, Rumford Falls Hydro LLC, Rumford Paper Company

[Docket No. EC06-97-000]

Take notice that on March 17, 2006, Rumford Falls Power Company, Rumford Paper Company and Rumford Falls Hydro LLC (collectively, Applicants) submitted an application pursuant to section 203 of the Federal Power Act requesting authorization for the sale of the Rumford Falls Hydroelectric Project from RFPC to Rumford Falls Hydro LLC, including the transfer of an undivided joint ownership interest in certain inside-the-fence electric delivery facilities from Rumford Paper Company to Rumford Falls Hydro LLC. In addition, Rumford Falls Hydro LLC requested authorization for the future transfer of an undivided ownership interest in certain inside-the-fence electric delivery facilities that will be used as temporary interconnection facilities to Rumford Paper Company once a permanent interconnection facility becomes operational.

Comment Date: 5 p.m. eastern time on April 7, 2006.

5. Astoria Energy, LLC; EIF Astoria III, LLC; Sigma AE Investor LLC; Leonard Riggio

[Docket Nos. EC06-98-000, ER01-3103-011]

Take notice that on March 14, 2006, Astoria Energy, LLC, EIF and Astoria III, LLC, (collectively, Applicants); Sigma AE Investor LLC, and Leonard Riggio (collectively, Sellers) pursuant to section 203 of the Federal Power Act, request authorization for the sale and transfer of substantially all of Sellers' indirect interest in Astoria to EIF Astoria.

Comment Date: 5 p.m. eastern time on April 6, 2006.

6. Tyr Energy, LLC; Green Country Energy, LLC; Lincoln Generating Facility, LLC and Tor Power, LLC

[Docket No. EC06-99-000]

Take notice that on March 16, 2006, Tyr Energy, LLC (Tyr), Green Country Energy, LLC (Green Country), Lincoln Generating Facility, LLC (Lincoln) and Tor Power, LLC (Tor), (collectively Applicants), filed with the Federal Energy Regulatory Commission an application pursuant to section 203 of the Federal Power Act for authorization to engage in an internal corporate reorganization. Applicants state that the jurisdictional facilities involved include the generation facilities of Green Country and Lincoln, Applicants' market-based rate schedules, the wholesale power sales agreements there under and those facilities necessary to interconnect with the transmission grid.

Comment Date: 5 p.m. eastern time on April 6, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4694 Filed 3-30-06; 8:45 am]

BILLING CODE 6717-01-P